DEPARTMENT OF AGRICULTURE

Office of the Secretary

[Docket No. APHIS-2012-0104]

Privacy Act Systems of Records; Phytosanitary Certificate Issuance and Tracking System

AGENCY: Animal and Plant Health Inspection Service, USDA.

ACTION: Notice of a proposed new system of records; withdrawal.

SUMMARY: We are withdrawing a Privacy Act System of Records notice published on August 9, 2013, (78 FR 48642-48644). The system of records was the Phytosanitary Certificate Issuance and Tracking System, USDA-APHIS-13. The August 9, 2013, notice was a duplicate notice published in error; in this document, we are withdrawing the August 9, 2013, notice from publication.

DATES: Effective September 4, 2013.

FOR FURTHER INFORMATION CONTACT: Mr. Christian B. Dellis, Export Services, Plant Health Programs, Plant Protection and Quarantine, APHIS, 4700 River Road Unit 140, Riverdale, MD 20737; (301) 851-2154.

SUPPLEMENTARY INFORMATION: On August 9, 2013, we published a notice in the Federal Register (79 FR 48642-48644, Docket No. APHIS-2012-0104) of a proposed new system of records to be added to our inventory of records systems subject to the Privacy Act of 1974, as amended. The system of records that was the subject of the notice was the Phytosanitary Certificate Issuance and Tracking System, USDA-APHIS-13. We published this notice in error, as we had previously published the same notice ¹ on June 24, 2013 (78 FR 37775-37777). We received no comments during the comment period for the June 2013 notice, and the system was adopted on August 5, 2013. Therefore, in this document, we are withdrawing the August 9, 2013, notice from publication.

¹ To view the notice, go to http://www.regulations.gov/#!docketDetail;D=APHIS-2012-0104.

Thomas J. Vilsack,
Secretary.

[FR Doc. 2013-21449 Filed 9-3-13; 8:45 am]

BILLING CODE 3410-34-P